INTERNATIONAL TRADE COMMISSION

[Investigations Nos. 731-TA-831-832, 835, 837 (Final)]

Certain Cold-Rolled Steel Products From China, Indonesia, Slovakia, and Taiwan

Determination

On the basis of the record¹ developed in the subject investigations, the United States International Trade Commission determines,² pursuant to section 735(b) of the Tariff Act of 1930 (19 U.S.C. 1673d(b)) (the Act), that an industry in the United States is not materially injured or threatened with material injury, and the establishment of an industry in the United States is not materially retarded, by reason of imports from China, Indonesia, Slovakia, and Taiwan of certain cold-rolled steel products that have been found by the Department of Commerce to be sold in the United States at less than fair value (LTFV).

¹ The record is defined in sec. 207.2(f) of the Commission's Rules of Practice and Procedure (19 CFR 207.2(f)).

² Commissioner Lynn M. Bragg dissenting.

Background

The Commission instituted these investigations effective June 2, 1999, following receipt of petitions filed with the Commission and the Department of Commerce by Bethlehem Steel Corporation (Bethlehem, PA); U.S. Steel Group (Pittsburgh, PA); Ispat Inland, Inc. (East Chicago, IL); LTV Steel Co., Inc. (Cleveland, OH); National Steel Corporation (Mishawaka, IN); Gulf States Steel, Inc. (Gadsden, AL); Steel Dynamics, Inc. (Butler, IN); Weirton Steel Corporation (Weirton, WV); and the United States Steelworkers of America, Pittsburgh, PA. The final phase of the investigations was scheduled by the Commission following notification of preliminary determinations by the Department of Commerce that imports of certain cold-rolled steel products from China, Indonesia, Slovakia, and Taiwan were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of December 1, 1999 (64 FR 67307). The hearing was held in Washington, DC, on January 20, 2000, and all persons who requested the opportunity were permitted to appear in person or by counsel.

The Commission transmitted its determinations in these investigations to the Secretary of Commerce on July 10, 2000. The views of the Commission are contained in USITC Publication 3320 (July 2000), entitled Certain Cold-Rolled Steel Products from China, Indonesia, Slovakia, and Taiwan: Investigations Nos. 731-TA-831-832, 835, 837 (Final).

Issued: July 11, 2000.
By order of the Commission.
Donna R. Koehnke,
Secretary.

[FR Doc. 00-17991 Filed 7-14-00; 8:45 am]

BILLING CODE 7020-02-P